DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of September 1, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Mendocino County, California and Incorporated Areas
Docket No.: FEMA-B-2135
City of Willits | City Hall, 111 East Commercial Street, Willits, CA 95490.
Unincorporated Areas of Mendocino County | Mendocino County Planning and Building Services Department, 860 North Bush Street, Ukiah, CA 95482.
McLean County, Kentucky and Incorporated Areas
Docket No.: FEMA-B-2134
City of Calhoun | McLean County Courthouse, 210 Main Street, Calhoun, KY 42327.
City of Livermore | City Hall, 105 West 3rd Street, Livermore, KY 42352.
Unincorporated Areas of McLean County | McLean County Courthouse, 210 Main Street, Calhoun, KY 42327.
Ohio County, Kentucky and Incorporated Areas
Docket No.: FEMA-B-2134
Unincorporated Areas of Ohio County | Ohio County Community Center, 130 East Washington Street, Hartford, KY 42347.
Webster County, Kentucky and Incorporated Areas
Docket No.: FEMA-B-2134
City of Sebree | Municipal Building, 36 Veterans Way, Sebree, KY 42455.
Unincorporated Areas of Webster County | Webster County Courthouse, 25 U.S. Highway 41-A South, Dixon, KY 42409.
Erie County, Ohio and Incorporated Areas
Docket No.: FEMA B-1806 and FEMA-B-2031
City of Huron | Municipal Building, 417 Main Street, Huron, OH 44839.
City of Sandusky | City Hall, 240 Columbus Avenue, Sandusky, OH 44870.
Unincorporated Areas of Erie County | Erie Regional Planning Commission, 2900 Columbus Avenue, Sandusky, OH 44870.
Village of Bay View | Village Hall, 304 East Bay View Drive, Bay View, OH 44870.
Village of Kelleys Island | Municipal Building, 121 Addison Street, Kelleys Island, OH 43438.
Deuel County, South Dakota and Incorporated Areas
Docket No.: FEMA-B-2127
City of Clear Lake | City Auditor, 125 3rd Avenue South, Clear Lake, SD 57226.
City of Gary | City Hall, 1113 Summit Street, Gary, SD 57237.
Unincorporated Areas of Deuel County | Deuel County Courthouse, 408 4th Street West, Clear Lake, SD 57226.
Grayson County, Texas and Incorporated Areas
Docket No.: FEMA-B-2101
City of Sherman | Engineering Department, 220 West Mulberry Street, Sherman, TX 75090.
Unincorporated Areas of Grayson County | Grayson County Courthouse, 100 West Houston Street, Sherman, TX 75090.

[FR Doc. 2022-11362 Filed 5-25-22; 8:45 am]

BILLING CODE 9110-12-P